DEPARTMENT OF COMMERCE

International Trade Administration

[A-557-832]

Float Glass Products From Malaysia: Final Affirmative Determination of Sales at Less Than Fair Value and Final Affirmative Determination of Critical Circumstances, in Part

AGENCY: Enforcement and Compliance, International Trade Administration, Department of Commerce.

SUMMARY: The U.S. Department of Commerce (Commerce) determines that float glass products from Malaysia are being, or are likely to be, sold in the United States at less than fair value (LTFV). The period of investigation is October 1, 2023, through September 30, 2024.

DATES: Applicable February 9, 2026.

FOR FURTHER INFORMATION CONTACT: Elizabeth Bremer or Benjamin Blythe, AD/CVD Operations, Office IV, Enforcement and Compliance, International Trade Administration, U.S. Department of Commerce, 1401 Constitution Avenue NW, Washington, DC 20230; telephone: (202) 482-4987 or (202) 482-3457, respectively.

SUPPLEMENTARY INFORMATION:

Background

On July 15, 2025, Commerce published in the Federal Register its preliminary affirmative determination in the LTFV investigation of float glass products (float glass) from Malaysia.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Accordingly, the deadline for issuing this final determination is February 3, 2026.

¹ See Float Glass Products from Malaysia: Preliminary Affirmative Determination of Sales at Less Than Fair Value, Preliminary Affirmative Determination of Critical Circumstances, in Part, Postponement of Final Determination, and Extension of Provisional Measures, 90 FR 31605 (July 15, 2025) (Preliminary Determination), and accompanying Preliminary Decision Memorandum.

² See Memorandum, “Deadlines Affected by the Shutdown of the Federal Government,” dated November 14, 2025.

³ See Memorandum, “Tolling of all Case Deadlines,” dated November 24, 2025.

A summary of the events that occurred since Commerce published the Preliminary Determination, as well as a full discussion of the issues raised by parties for this final determination, may be found in the Issues and Decision Memorandum.⁴ The Issues and Decision Memorandum is a public document and is on file electronically via ACCESS. ACCESS is available to registered users at https://access.trade.gov. In addition, a complete version of the Issues and Decision Memorandum can be accessed directly at https://access.trade.gov/public/FRNoticesListLayout.aspx.

⁴ See Memorandum, “Issues and Decision Memorandum for the Final Affirmative Determination of Sales at Less Than Fair Value in the Investigation of Float Glass Products from Malaysia,” dated concurrently with, and hereby adopted by, this notice (Issues and Decision Memorandum).

Scope of the Investigation

The products covered by this investigation are float glass products from Malaysia. For a complete description of the scope of this investigation, see Appendix I.

Scope Comments

In the Preliminary Scope Memorandum, we set aside a period of time for parties to raise issues regarding product coverage (i.e., scope) in scope-specific case briefs or other written comments.⁵ We received scope case and rebuttal briefs from multiple interested parties. For a summary of the product coverage comments and rebuttal responses submitted to the record for this final determination, and accompanying discussion and analysis of all comments timely received, see the Final Scope Memorandum.⁶ In this final determination, Commerce modified the scope language used in the Preliminary Determination by adding certain Harmonized Tariff Schedule of the United States subheadings to the scope.⁷ See Appendix I.

⁵ See Memorandum, “Float Glass Products from the People's Republic of China and Malaysia: Scope Comments Decision Memorandum for the Preliminary Determinations,” dated July 9, 2025 (Preliminary Scope Memorandum).

⁶ See Memorandum, “Float Glass Products from the People's Republic of China and Malaysia: Final Scope Decision Memorandum,” dated February 3, 2026 (Final Scope Memorandum).

⁷ Id.

Verification

As provided in section 782(i) of the Tariff Act of 1930, as amended (the Act), in August and September 2025, we conducted verifications of the sales and cost information submitted by the mandatory respondents, Jinjing Technology Malaysia Sdn. Bhd. (Jinjing Malaysia) and Xinyi Energy Smart (Malaysia) Sdn. Bhd. (Xinyi Malaysia), for use in the final determination.⁸ We conducted the verifications using standard verification procedures, which included an examination of relevant sales and accounting records, and original source documents provided by Jinjing Malaysia and Xinyi Malaysia.

⁸ See Memoranda, “Verification of Jinjing Technology Malaysia Sdn Bhd in the 2023-2024 Less-Than-Fair-Value Investigation of Float Glass Products from Malaysia,” dated December 15, 2025, and “Less-Than-Fair-Value Investigation of Float Glass Products from Malaysia: Verification of the Sales and Cost Responses of Xinyi Energy Smart (Malaysia) Sdn. Bhd.,” dated December 15, 2025.

Analysis of Comments Received

All issues raised in the case and rebuttal briefs submitted by interested parties in this investigation are addressed in the Issues and Decision Memorandum. A list of the issues addressed in the Issues and Decision Memorandum is attached to this notice as Appendix II.

Use of Adverse Facts Available

In the Preliminary Determination, Commerce based the estimated weighted-average dumping margin of NSG (Malaysian Sheet Glass) (NSG), which did not timely respond to Commerce's quantity and value questionnaire, on adverse facts available (AFA). No parties commented on that decision. As explained in the Issues and Decision Memorandum, Commerce has continued to base NSG's estimated weighted-average dumping margin on AFA, pursuant to sections 776(a) and (b) of the Act. Specifically, we assigned NSG an AFA rate equal to the highest non-aberrational sales-specific dumping margin calculated in this investigation.⁹

⁹ See Memorandum, “Corroboration of Adverse Facts Available Rate,” dated concurrently with this notice.

Final Affirmative Determination of Critical Circumstances, in Part

In the Preliminary Determination, Commerce found that critical circumstances do not exist for Jinjing Malaysia, Xinyi Malaysia, and all other producers or exporters of float glass from Malaysia, except for NSG, for which Commerce found that critical circumstances exist. No parties commented on Commerce's preliminary critical circumstances determination. In this final determination, Commerce has continued to find that critical circumstances do not exist for Jinjing Malaysia, Xinyi Malaysia, and all other producers or exporters of float glass from Malaysia, except for NSG, for which critical circumstances exist, pursuant to section 735(a)(3) of the Act and 19 CFR 351.206. For a discussion of Commerce's critical circumstances analysis, see the Issues and Decision Memorandum.

Changes Since the Preliminary Determination

We made certain changes to the Preliminary Determination. For a discussion of these changes, see the Issues and Decision Memorandum.

All-Others Rate

Section 735(c)(5)(A) of the Act provides that Commerce shall determine an estimated weighted-average dumping margin, i.e., the all-others rate, for all other exporters and producers not individually examined. This rate shall be an amount equal to the weighted average of the estimated weighted-average dumping margins established for exporters and producers individually investigated, excluding any zero and de minimis dumping margins, and any dumping margins determined entirely under section 776 of the Act.

In the final determination, Commerce calculated an estimated weighted-average dumping margin for Xinyi Malaysia that is zero and based NSG's estimated weighted-average dumping margin entirely on the facts otherwise available pursuant to section 776 of the Act. Therefore, the only estimated weighted-average dumping margin that Commerce determined that is not zero, de minimis, or based entirely on the facts otherwise available is the estimated weighted-average dumping margin that Commerce calculated for Jinjing Malaysia. Therefore, we assigned the estimated weighted-average dumping margin that we calculated for Jinjing Malaysia as the estimated weighted-average dumping margin for all other producers and exporters, pursuant to section 735(c)(5)(A) of the Act.

Final Determination

Commerce determines that the following estimated weighted-average dumping margins exist for the period, October 1, 2023, through September 30, 2024:

Exporter or producer | Weighted-average dumping margin (percent) | Cash deposit rate (adjusted for subsidy offset(s)) (percent) ¹⁰
Jinjing Technology Malaysia Sdn. Bhd | 8.78 | 8.78
Xinyi Energy Smart (Malaysia) Sdn. Bhd | 0.00 | 0.00
NSG (Malaysian Sheet Glass) | * 31.55 | * 31.55
All Others | 8.78 | 8.78
* Rate based on facts available with adverse inferences.

Disclosure

¹⁰ There were no export subsidy offsets determined in the companion CVD investigation.

Commerce intends to disclose the calculations performed in connection with this final determination to parties to the proceeding within five days of any public announcement or, if there is no public announcement, within five days of the date of publication of this notice in the Federal Register, in accordance with 19 CFR 351.224(b).

Suspension of Liquidation

The provisional measures in this investigation expired on January 11, 2026. Because Commerce has reached an affirmative final determination, except as noted below, suspension of liquidation will continue with respect to all applicable entries of subject merchandise, as described in Appendix I of this notice, which were entered, or withdrawn from warehouse, for consumption on or after July 15, 2025, the date of publication of the Preliminary Determination in the Federal Register through January 10, 2026. Because Commerce found that critical circumstances exist with respect to NSG, pursuant to section 735(c)(4)(B) of the Act, suspension of liquidation will continue with respect to all applicable entries of subject merchandise from NSG, as described in Appendix I of this notice, which were entered, or withdrawn from warehouse, for consumption on or after April 16, 2025, which is 90 days before the date of publication of the Preliminary Determination in the Federal Register through January 10, 2026. If the U.S. International Trade Commission (ITC) issues a final affirmative injury determination, Commerce will issue an antidumping duty order and provide the appropriate instructions to U.S. Customs and Border Protection (CBP) regarding suspend liquidation of entries under section 736(a) of the Act. These suspension of liquidation instructions will remain in effect until further notice.

Because Commerce calculated a zero percent estimated weighted-average dumping margin for subject merchandise exported and produced by Xinyi Malaysia, Commerce will direct CBP to terminate the suspension of liquidation of entries of such merchandise and refund any cash deposits. In addition, we will exclude merchandise exported and produced by Xinyi Malaysia from the antidumping duty order, in the event an order is instituted, in accordance with section 735(a)(4) of the Act. However, entries of shipments of subject merchandise from Xinyi Malaysia in any other exporter/producer combination, or by third parties that sourced subject merchandise from the excluded producer/exporter combination, will be subject to suspension of liquidation and the cash deposit requirements discussed above.

If the ITC issues a final affirmative injury determination, Commerce will instruct CBP to require the following cash deposits of estimated weighted-average antidumping duties for all appropriate entries, as follows: (1) the cash deposit rate for subject merchandise exported by one of the companies listed in the table above is the company-specific estimated weighted-average dumping margin listed for the company in the table; (2) if the exporter of the subject merchandise is not listed in the table above, but the producer is, then the cash deposit rate will be the company-specific estimated weighted-average dumping margin listed for the producer of the subject merchandise in the table above; and (3) the cash deposit rate for all other producers and exporters is the all-others estimated weighted-average dumping margin listed in the table above.

To determine the cash deposit rates in LTFV investigations, Commerce normally adjusts the estimated weighted-average dumping margins by the amount of export subsidies countervailed in the companion countervailing duty (CVD) investigation. However, Commerce did not make a final affirmative determination of countervailable export subsidies in the companion CVD investigation. Therefore, we did not adjust the estimated weighted-average dumping margins in this LTFV investigation for export subsidies.

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of float glass from Malaysia no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Suspension of Liquidation” section above.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This final determination and notice are issued and published in accordance with sections 735(d) and 777(i) of the Act, and 19 CFR 351.210(c).

Dated: February 3, 2026.
Christopher Abbott,
Deputy Assistant Secretary for Policy and Negotiations, performing the non-exclusive functions and duties of the Assistant Secretary for Enforcement and Compliance.

Appendix I

Scope of the Investigation

The scope of this investigation covers float glass products (FGP), which are articles of soda-lime-silica glass that are manufactured by floating a continuous strip of molten glass over a smooth bath of tin (or another liquid metal with a density greater than molten glass), cooling the glass in an annealing lehr, and cutting it to appropriate dimensions. For purposes of the investigation, float glass products have an actual thickness of at least 2.0 mm (0.0787 inches) and an actual surface area of at least 0.37 square meters (4.0 square feet).

The country of origin of each float glass product is determined by the location where the soda-lime-silica glass is first manufactured by floating a continuous strip of molten glass over a smooth bath of tin and cooling the glass in an annealing lehr, regardless of the location of any downstream finishing or fabrication operations.

Prior to being subjected to further treatment, finishing, or fabrication, float glass products meet the requirements of Type I under ASTM-C1036 of the American Society for Testing and Materials (ASTM).

Float glass products may be clear, stained, tinted, or coated with one or more materials. Examples of coated float glass products include Low-E architectural glass (i.e., glass with a low emissivity coating to limit the penetration of radiant heat energy) and frameless mirrors (i.e., flat glass with a silver, aluminum, or other reflective layer) such as mirror stock sheet.

Float glass products may be annealed, chemically strengthened, heat strengthened, or tempered to achieve a desired surface compression, pursuant to ASTM-C1048, ASTM-C1422/C1422M, or other similar specifications.

Float glass products include tub and shower enclosures (i.e., doors and panels) made of tempered glass, which may be sold with attached or unattached hardware. In such cases, the scope covers only the tempered glass, to the exclusion of any non-glass hardware.

The only float glass product assemblies included within the scope are: (1) articles consisting of two of more sheets of float glass that are bonded together using a polymer interlayer (i.e., laminated glass); (2) insulating glass units (IGUs), which consist of two or more sheets of float glass separated by a spacer material and hermetically sealed together at the edge in order to create a thermal barrier using air or one or more gases but excluding any non-float glass components (other than the spacer and insulating materials) that may be mounted within the space between sheets of float glass (e.g., blinds, wrought iron cores, and camed patterned glass), as such non-float glass components are deemed outside the scope and not subject to duties; and (3) LED mirrors (i.e., float glass mirrors with one or more light-emitting diodes attached to or integrated with the mirror, as well as framed float glass mirrors with one or more light-emitting diodes attached to or integrated with the mirror or the mirror frame, but without other electronic functionality such as digital or video displays or audio circuitry).

Float glass products covered by the scope may meet one or more of the ASTM-C162, ASTM-C1036, ASTM-C1048, ASTM-C1172, ASTM-C1349, ASTM-C1376, ASTM-C1422/C1422M, ASTM-C1464, ASTM-C1503, ASTM-C1651, ASTM-E1300, and ASTM-E2190 specifications, definitions, and/or standards.

Float glass products may be further worked, including, but not limited to, operations such as: cutting; beveling; edging; notching; drilling; etching; bending; curving; chipping; embossing; engraving; surface grinding; or polishing; and sandblasting (i.e., using high velocity air to stream abrasive particles and thereby impart a frosted aesthetic to the glass surface). A float glass product which undergoes further work remains within the scope so long as the soda-lime-silica glass originally satisfied the requirements of ASTM-C1036 Type I and was first manufactured in a subject country, regardless of where it is further worked.

Excluded from the scope are: (1) wired glass (i.e., glass with a layer of wire mesh embedded within); (2) patterned flat glass (i.e., rolled glass with a pattern impressed on one or both sides) meeting the requirements of Type II under ASTM-C1036, including greenhouse glass and patterned solar glass (i.e., photovoltaic glass with a textured surface); (3) safety glazing materials for vehicles certified to American National Standards Institute (ANSI) Standard Z26.1; (4) vacuum insulating glass (VIG) units, which consist of two or more sheets of float glass separated by a spacer material, with at least one hermetically sealed compartment that uses a gas-free vacuum as a thermal barrier; (5) framed mirrors without any LEDs integrated with the mirror or the mirror frame; (6) unframed “over-the-door” mirrors that are ready for use as imported without undergoing after importation any processing, finishing, or fabrication; and (7) heat-strengthened washing machine lid glass with an actual surface area less than 6.0 square feet (0.56 square meters).

Also excluded from the scope of the investigation are: (1) soda-lime-silica glass containing less than 0.01 percent iron oxide by weight, annealed with a surface compression less than 3,500 pounds per square inch (PSI), having a transparent conductive oxide base coating (e.g., tin oxide), and with an actual thickness less than or equal to 4.0 mm (0.1575 inches) (i.e., “coated solar glass”); and (2) heat treated soda-lime-silica glass with a surface compression between 3,500 and 10,000 PSI, containing two or more drilled holes, and having an actual thickness less than 2.5 mm (0.0984 inches) (i.e., “clear back solar glass”). Solar glass products (also known as photovoltaic glass) are designed to facilitate the conversion of solar energy into electricity.

Also excluded are metal-camed glass products (i.e., panels of glass joined together with metal banding) where the constituent glass panels would otherwise be excluded by reason of their size (e.g., an actual surface area less than 0.37 square meters, or 4.0 square feet) and/or by reason of consisting of patterned flat glass (i.e., rolled glass with a pattern impressed on one or both sides) meeting the requirements of Type II under ASTM-C1036.

Also excluded from the scope of the investigation are any products already covered by the scope of any extant antidumping and/or countervailing duty orders, including Aluminum Extrusions from the People's Republic of China: Antidumping Duty Order, 76 FR 30650 (May 26, 2011), and Aluminum Extrusions from the People's Republic of China: Countervailing Duty Order, 76 FR 30653 (May 26, 2011).

The products subject to the investigation are currently classifiable under subheadings 7005.10.8000, 7005.21.1010, 7005.21.1030, 7005.21.2000, 7005.29.1810, 7005.29.1850, 7005.29.2500, 7007.29.0000, 7008.00.0000, 7009.91.5010, 7009.91.5095, and 7009.92.5010 of the Harmonized Tariff Schedule of the United States (HTSUS). Products subject to the investigation may also enter under HTSUS subheadings 7006.00.4010, 7006.00.4050, 7007.19.0000, 7013.99.2000, 7013.99.9090, 7610.10.0030, and 7610.90.0080. Although the HTSUS subheadings are provided for convenience and customs purposes, the written description of the scope of the investigation is dispositive.

Appendix II

List of Topics Discussed in the Issues and Decision Memorandum

I. Summary

II. Background

III. Application of Facts Available With Adverse Inferences

IV. Critical Circumstances

V. Changes Since the Preliminary Determination

VI. Discussion of the Issues

Comment 1: Whether Commerce Should Apply Adverse Facts Available (AFA) to Xinyi Malaysia

Comment 2: Whether Xinyi Malaysia Understated Its Total Direct Material Costs

Comment 3: Whether Xinyi Malaysia Failed to Account for Affiliated Party Transactions

Comment 4: Whether Xinyi Malaysia's Reported Costs Fail to Account for the Differences in Physical Characteristics

Comment 5: Whether To Grant a Self-Generated Electricity Offset to the Reported Costs

Comment 6: Whether the Net Foreign Exchange Gain Offset Should Be Disallowed

Comment 7: Whether to Account for Post-Production Yield Losses

Comment 8: Whether Commerce Should Correct Jinjing Malaysia's Reported Costs for Certain Verification Findings

Comment 9: Whether Commerce Should Use Jinjing Malaysia's Updated Databases with Revised Packing Expenses

VII. Recommendation

[FR Doc. 2026-02490 Filed 2-6-26; 8:45 am]

BILLING CODE 3510-DS-P